DEPARTMENT OF AGRICULTURE

National Agricultural Statistics Service

Notice of Opportunity To Submit Content Request for the 2022 Census of Agriculture

AGENCY: National Agricultural Statistics Service, USDA.

ACTION: Notice and request for stakeholder input.

SUMMARY: The National Agricultural Statistics Service (NASS) is currently accepting stakeholder feedback in the form of content requests for the 2022 Census of Agriculture. This census is required by law under the Census of Agriculture Act of 1997.

DATES: Comments on this notice must be received by July 25, 2019 to be assured of consideration.

ADDRESSES: Requests must address items listed in comments section below. Please submit requests online at www.nass.usda.gov/go/aginput or via mail to: USDA-NASS, Census of Agriculture Program, Room 6351, 1400 Independence Ave. SW, Washington, DC 20250.

If you have any questions, send an email to nass.aginputcounts@.usda.gov or call 1-800-727-9540.

FOR FURTHER INFORMATION CONTACT: Hubert Hamer, Administrator, National Agricultural Statistics Service, U.S. Department of Agriculture, (202) 720-2707, Fax: (855) 493-0445, or email: nass.oa@usda.gov.

SUPPLEMENTARY INFORMATION: The results of the 2017 Census of Agriculture were released on April 11, 2019. For more information, visit www.nass.usda.gov/AgCensus. While the National Agricultural Statistics Service (NASS) is completing the censuses in Puerto Rico, American Samoa, Guam, U.S. Virgin Islands, and the Commonwealth of the Northern Mariana Islands (which will be published in early 2020), plans are underway for the next census of agriculture, which will be conducted in 2023, referencing 2022.

In preparation for the 2017 Census of Agriculture, NASS made numerous changes to the content and layout of the questionnaire based on extensive testing and input from data users. NASS is looking to stabilize the questionnaire for the 2022 Census of Agriculture so that data series can be created to measure more accurately all changes in U.S. agriculture. NASS recognizes that timely, reliable, and detailed statistics help maintain a stable economic atmosphere and reduce risk for production, marketing, and distribution operations. NASS is the primary data collection Agency of the U.S. Department of Agriculture (USDA). NASS is looking for ways to streamline the questionnaire to reduce respondent burden and data collection costs, while still providing data users with the detailed data they need.

NASS is beginning the process of planning the content of the 2022 Census of Agriculture. We are seeking input on ways to improve the census of agriculture. Recommendations or any other ideas concerning the census would be greatly appreciated. The 2017 Census of Agriculture questionnaire may be viewed on-line at: www.nass.usda.gov/go/censusform. The following justification categories should be addressed when proposing a new line of questioning for the 2022 Census of Agriculture:

1. What data are needed?

2. Why are the data needed?

3. At what geographic level are the data needed? (U.S., State, County, other)

4. Who will use these data?

5. What decisions will be influenced with these data?

6. What surveys have used the proposed question before; what testing has been done on the question; and what is known about its reliability and validity?

7. Draft of the recommended question.

All responses to this notice will become a matter of public record and be summarized and considered by NASS in preparing the 2022 Census of Agriculture questionnaire for OMB approval.

Signed at Washington, DC, May 29, 2019.
Kevin L. Barnes,
Associate Administrator.

[FR Doc. 2019-13432 Filed 6-24-19; 8:45 am]

BILLING CODE 3410-20-P